DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 80 FR 37639-37640 dated July 1, 2015).

This notice reflects organizational changes in the Health Resources and Services Administration (HRSA), HIV/AIDS Bureau (RV). Specifically, this notice: (1) Establishes the Office of HIV/AIDS Training and Capacity Development (RVT); (2) transfers the Division of HIV/AIDS Training and Capacity Development (RV7) function to the newly established Office of HIV/AIDS Training and Capacity Development (RVT); (3) abolishes the Division of HIV/AIDS Training and Capacity Development (RV7); (4) establishes the Division of Domestic Programs (RVT1), and; (5) establishes the Division of Global Programs (RVT2).

Chapter RV—HIV/AIDS Bureau

Section RV-10, Organization

Delete the organization for the HIV/AIDS Bureau (RV) in its entirety and replace with the following:

The HIVAIDS Bureau (RV) is headed by the Associate Administrator, who reports directly to the Administrator, Health Resources and Services Administration. The HIV/AIDS Bureau includes the following components:

(1) Office of the Associate Administrator (RV);

(2) Office of Operations and Management (RV2);

(3) Division of Policy and Data (RVA);

(4) Division of Metropolitan HIV/AIDS Programs (RV5);

(5) Division of State HIV/AIDS Programs (RVD);

(6) Division of Community HIV/AIDS Programs (RV6);

(7) Office of HIV/AIDS Training and Capacity Development (RVT);

(a) Division of Domestic Programs (RVT1); and

(b) Division of Global Programs (RVT2).

Section RV-20, Functions

Delete the functions for the Division of HIV/AIDS Training and Capacity Development and, replace in its entirety.

Office of HIV/AIDS Training and Capacity Development (RVT)

The Office of HIV/AIDS Training and Capacity Development provides national leadership and manages the implementation of Part F under Title XXVI of the PHS Act as amended by the Ryan White HIV/AIDS Treatment Extension Act of 2009, Public Law 111-87 (the Ryan White HIV/AIDS Program), including the Special Projects of National Significance and the AIDS Education and Training Centers Programs. The Special Projects of National Significance Program develops innovative models of HIV care and the AIDS Education and Training Centers Program increases the number of health care providers who are educated and motivated to counsel, diagnose, treat, and medically manage people with HIV disease and to help prevent high-risk behaviors that lead to HIV transmission. The Office also implements the training and systems strengthening functions of the Global HIV/AIDS Program as part of the President's Emergency Plan for AIDS Relief (PEPFAR). This includes strengthening health systems for delivery of prevention, care and treatment services for people living with HIV/AIDS in PEPFAR funded countries and providing management and oversight of international programs aimed at improving quality and innovation in health professions education and training. The Office will translate lessons learned from both the Global HIV/AIDS Programs and Special Projects of National Significance projects to the Part A, B, C, D, and F grantee community. In collaboration with the Division of Policy and Data, the division assesses effectiveness of technical assistance efforts/initiatives, identifies new technical assistance needs and priority areas, and participates in the bureau-wide technical assistance workgroup.

Division of Domestic Programs (RVT1)

The Division of Domestic Programs is responsible for activities associated with the planning, development, implementation, evaluation, and coordination of the AIDS Education and Training Center Program. The Division is aimed at developing and sustaining HIV clinical expertise, increasing the number of direct care clinical providers who are competent and willing to clinically manage HIV infected patients through education, training, longitudinal information support, clinical consultation, and technical assistance, as well as, a variety of Minority AIDS Initiative and National HIV/AIDS Strategy related training projects, and other associated activities.

Division of Global Programs (RVT2)

The Division of Global Programs provides leadership in improving care and treatment and support services for People Living with HIV/AIDS outside of the United States and its territories. The division: (1) In coordination with the Department of State/Office of the Global AIDS Coordinator, plans, develops, implements, evaluates, and coordinates the activities of the clinical assessment system strengthening, Medical Education Partnership Initiative, Nursing Education Partnership Initiative, the International Training and Education Center for Health, quality improvement, and twinning center programs; (2) provides guidance and expertise to funded programs; (3) develops funding opportunity announcements and program guidance documents; (4) conducts on-site program reviews and reviews of pertinent and required reports, and activities to assess compliance with program policies and country priorities; (5) in conjunction with other division, bureau, and agency entities, assists in the planning and implementation of priority HIV activities such as workgroups, meetings, and evaluation projects; (6) collaborates with other federal agencies and in-country partners in the implementation of the PEPFAR program, and; (7) provides management and oversight of international programs aimed at improving quality and innovation in health professions education, retention, training, faculty development and applied research systems.

Delegations of Authority

All delegations of authority and re-delegations of authority made to HRSA officials that were in effect immediately prior to this reorganization, and that are consistent with this reorganization, shall continue in effect pending further re-delegation.

This reorganization is effective upon date of signature.

Dated: July 10, 2015.
James Macrae,
Acting Administrator.

[FR Doc. 2015-17902 Filed 7-21-15; 8:45 am]

BILLING CODE 4165-15-P